NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research—STC Center for Integrated Quantum Materials (CIQM), Massachusetts Institute of Technology (#1203) Site Visit.

Date and Time: May 7, 2019, 6:30 p.m. to 9:00 p.m., May 8, 2019, 7:20 a.m. to 7:00 p.m., May 9, 2019; 7:30 a.m. to 3:30 p.m.

Place: Massachusetts Institute of Technology, 77 Massachusetts Avenue, Cambridge, MA 02138.

Type of Meeting: Part-open.

Contact Person: Dr. Tomasz Durakiewicz, Program Director, Condensed Matter Physics (CMP). Division of Materials Research, Room E 9344, National Science Foundation, 2415 Eisenhower Avenue, Alexandria, VA 22314; Telephone (703) 292-4892.

Purpose of Meeting: NSF site visit to provide advice and recommendations concerning further NSF support for the Center.

Agenda

May 7, 2019

6:30 p.m.-9:00 p.m. Review Panel members meeting and orientation (Closed)

May 8, 2019

7:20 a.m.-8:00 a.m. Light Breakfast with NSF Review Panel

8:00 a.m.-8:50 a.m. Directors Overview—Bob Westervelt, Naomi Brave (Closed)

8:50 a.m.-9:00 a.m. Discussion (Closed)

9:00 a.m.-9:35 a.m. Research Area 1: Novel vdW Heterostructures—Philip Kim

9:35 a.m.-9:45 a.m. Discussion

9:45 a.m.-10:20 a.m. Research Area 2: Discovery of New TI Crystals—Joseph Checkelsky

10:20 a.m.-10:30 a.m. Discussion

10:30 a.m.-10:45 a.m. Break

10:45 a.m.-11:20 a.m. Research Area 3: Topologically Protected Qubits—Amir Yacoby

11:20 a.m.-11:30 a.m. Discussion

11:30 a.m.-12:05 p.m. Research Area 4: Quantum Networks—Marko Loncar

12:05 p.m.-12:15 p.m. Discussion

12:15 p.m.-12:40 p.m. Executive Session for Site Visit Team and NSF (Closed)

12:40 p.m.-1:40 p.m. Lunch—Site Visit Team with Students and Postdocs (Closed)

1:40 p.m.-2:10 p.m. Education & Outreach, and the CIQM Education Supplement: Tina Brower-Thomas

2:10 p.m.-2:20 p.m. Diversity Plan: Steven Richardson

2:20 p.m.-2:30 p.m. Discussion

2:30 p.m.-2:50 p.m. Science Communication, and the Quantum Matters Competition Supplement: Carol Lynn Alpert

2:50 p.m.-3:00 p.m. Discussion

3:00 p.m.-3:20 p.m. ALS Clear Supplement: Jeanne Reis, Mandy Houghton

3:20 p.m.-3:30 p.m. Discussion

3:30 p.m.-3:50 p.m. Knowledge Transfer, Industrial and Other Collaborations—Tomas Palacios

3:50 p.m.-4:00 p.m. Discussion

4:00 p.m.-5:00 p.m. Poster Session

5:00 p.m.-6:30 p.m. Executive Session Site Visit Team and NSF: Prepare Questions (Closed)

6:30 p.m.-6:45 p.m. Site Visit Team Meets with Director and Executive Committee (Closed)

7:00 p.m. Working Dinner for All CIQM Faculty & Staff

May 9, 2019

7:30 a.m.-8:00 a.m. Light Breakfast

8:00 a.m.-10:00 a.m. Executive Session—Director's Response (CIQM Executive Committee) (Closed)

10:00 a.m.-10:10 a.m. Break

10:10 a.m.-11:00 a.m. Executive Session of Site Visit Team (Closed)

11:00 a.m.-12:00 p.m. Meeting with Administrators Only (no PIs)/Institutional Support (Closed)

12:00 p.m.-3:00 p.m. Site Review Team prepares Site Visit Report—Working lunch (Closed)

3:00 p.m.-3:30 p.m. Debriefing with STC Director and Executive Committee (Closed)

Dated: March 27, 2019.
Crystal Robinson,
Committee Management Officer.

[FR Doc. 2019-06301 Filed 4-1-19; 8:45 am]

BILLING CODE 7555-01-P